DEPARTMENT OF COMMERCE

Bureau of the Census

National Advisory Committee

AGENCY: U.S. Census Bureau, Department of Commerce.

ACTION: Notice of public meeting.

SUMMARY: The U.S. Census Bureau is giving notice of a meeting of the National Advisory Committee on Racial, Ethnic and Other Populations (NAC). The NAC addresses policy, research, and technical issues relating to all Census Bureau programs and activities. These activities include the production and dissemination of detailed demographic and economic statistics across all program areas, including the Decennial Census programs. The NAC will meet in a plenary session on November 2-3, 2017. Last minute changes to the schedule are possible, which could prevent us from giving advance public notice of schedule adjustments. Planned topics of discussion include the following items:

• 2020 Census Program updates

• 2020 Census Operations: Integrated Communications Plan

• Undercount of Young Children Working Group update

• Integrated Partnership and Communications Working Group update

Please visit the Census Advisory Committees Web site for the most current meeting agenda at: http://www.census.gov/about/cac.html. The meeting will be available via webcast at: http://www.census.gov/newsroom/census-live.html.

DATES: November 2-3, 2017. On Thursday, November 2, the meeting will begin at approximately 8:30 a.m. and end at approximately 5:00 p.m. On Friday, November 3, the meeting will begin at approximately 8:30 a.m. and end at approximately 2:00 p.m.

ADDRESSES: The meeting will be held at the U.S. Census Bureau Auditorium, 4600 Silver Hill Road, Suitland, Maryland 20746.

FOR FURTHER INFORMATION CONTACT: Tara Dunlop Jackson, Branch Chief for Advisory Committees, Customer Liaison and Marketing Services Office, at tara.dunlop.jackson@census.gov, Department of Commerce, U.S. Census Bureau, Room 8H177, 4600 Silver Hill Road, Washington, DC 20233, telephone 301-763-5222. For TTY callers, please use the Federal Relay Service 1-800-877-8339.

SUPPLEMENTARY INFORMATION: The NAC was establish ed in March 2012 and operates in accordance with the Federal Advisory Committee Act (Title 5, United States Code, Appendix 2, Section 10). The NAC members are appointed by the Director, U.S. Census Bureau, and consider topics such as hard to reach populations, race and ethnicity, language, aging populations, American Indian and Alaska Native tribal considerations, new immigrant populations, populations affected by natural disasters, highly mobile and migrant populations, complex households, rural populations, and population segments with limited access to technology. The Committee also advises on data privacy and confidentiality, among other issues.

All meetings are open to the public. A brief period will be set aside at the meeting for public comment on Friday, November 3. However, individuals with extensive questions or statements must submit them in writing to: census.national.advisory.committee@census.gov (subject line “November 2017 NAC Meeting Public Comment”), or by letter submission to Kimberly L. Leonard, Committee Liaison Officer, Department of Commerce, U.S. Census Bureau, Room 8H179, 4600 Silver Hill Road, Washington, DC 20233.

If you plan to attend the meeting, please register by Monday, October 30, 2017. You may access the online registration from the following link: https://www.regonline.com/nac_meeting_nov2017. Seating is available to the public on a first-come, first-served basis.

This meeting is physically accessible to people with disabilities. Requests for sign language interpretation or other auxiliary aids should also be directed to the Committee Liaison Officer as soon as known, and preferably two weeks prior to the meeting.

Please call 301-763-9906 upon arrival at the Census Bureau on the day of the meeting. A photo ID must be presented in order to receive your visitor's badge. Visitors are not allowed beyond the first floor.

Dated: September 14, 2017.
Ron S. Jarmin,
Associate Director for Economic Programs, performing the non-exclusive functions and duties of the Director, Bureau of the Census.

[FR Doc. 2017-20061 Filed 9-19-17; 8:45 am]

BILLING CODE 3510-07-P